DEPARTMENT OF HOMELAND SECURITY

Coast Guard

33 CFR Part 117

[Docket No. USCG-2016-0228]

Drawbridge Operation Regulation; Delaware River, Delair, NJ to Philadelphia, PA

AGENCY: Coast Guard, DHS.

ACTION: Notice of deviation from drawbridge regulation.

SUMMARY: The Coast Guard has issued a temporary deviation from the operating schedule that governs the Delair Bridge across the Delaware River, mile 104.6, between Philadelphia PA and Delair, NJ. The deviation is necessary to perform bridge repairs. This deviation allows the bridge to remain in the closed-to-navigation position.

DATES: This deviation is effective from 5 a.m. on April 30, 2016 to 5 a.m. on June 11, 2016.

ADDRESSES: The docket for this deviation, [USCG-2016-0228] is available at http://www.regulations.gov. Type the docket number in the “SEARCH” box and click “SEARCH”. Click on Open Docket Folder on the line associated with this deviation.

FOR FURTHER INFORMATION CONTACT: If you have questions on this temporary deviation, call or email Mrs. Traci Whitfield, Bridge Administration Branch Fifth District, Coast Guard; telephone (757) 398-6629, email Traci.G.Whitfield@uscg.mil.

SUPPLEMENTARY INFORMATION: Conrail, owner of the Delair Bridge, has requested a temporary deviation from the current operating regulation to perform urgent repairs by replacing wire ropes connecting the counterweights and the lift span. The bridge is a vertical lift-span bridge and has a vertical clearance in the closed position of 49 feet above mean high water.

The current operating schedule is set out in 33 CFR 117.716. Under this temporary deviation, the bridge will remain in the closed-to-navigation position from 5 a.m. April 30, 2016 to 5 a.m. May 7, 2016; from 5 a.m. May 14, 2016 to 5 a.m. May 21, 2016; and from 5 a.m. June 4, 2016 to 5 a.m. June 11, 2016. The lift span will not be able to open since one counterweight will be detached until the end of the repair work.

Vessels able to pass through the bridge in the closed position may do so at anytime. The bridge will not be able to open for emergencies and there is no immediate alternate route for vessels unable to pass through the bridge in the closed position. The rope replacement construction schedule was developed through the coordination with Coast Guard Sector Delaware Bay and the Mariners' Advisory Committee for the Bay and River Delaware (MAC). The Coast Guard will also inform the users of the waterways through our Local and Broadcast Notices to Mariners of the change in operating schedule for the bridge so that vessel operators can arrange their transits to minimize any impact caused by the temporary deviation.

In accordance with 33 CFR 117.35 (e), the drawbridge must return to its regular operating schedule immediately at the end of the effective period of this temporary deviation. This deviation from the operating regulations is authorized under 33 CFR 117.35.

Dated: April 11, 2016.
Hal R. Pitts,
Bridge Program Manager, Fifth Coast Guard District.

[FR Doc. 2016-08690 Filed 4-14-16; 8:45 am]

BILLING CODE 9110-04-P